POSTAL SERVICE

Board of Governors; Sunshine Act Meeting

DATE AND TIME: Tuesday, March 22, 2011, at 10 a.m.

PLACE: Washington, DC at U.S. Postal Service Headquarters, 475 L'Enfant Plaza, SW.

STATUS: Closed.

Matters To Be Considered

Tuesday, March 22, at 10 a.m. (Closed)

1. Strategic Issues.

2. Financial Matters.

3. Pricing.

4. Personnel Matters and Compensation Issues.

5. Governors' Executive Session—Discussion of prior agenda items and Board Governance.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2011-5869 Filed 3-9-11; 4:15 pm]

BILLING CODE 7710-12-P